POSTAL SERVICE

International Product Change—Global Expedited Package Services—Non-Published Rates

AGENCY: Postal Service ™.

ACTION: Notice.

SUMMARY: The Postal Service gives notice of filing a request with the Postal Regulatory Commission to add Global Expedited Package Services—Non-Published Rates 8 (GEPS—NPR 8) to the Competitive Products List.

DATES: Effective date: October 20, 2015.

FOR FURTHER INFORMATION CONTACT: Christopher C. Meyerson, 202-268-7820.

SUPPLEMENTARY INFORMATION: The United States Postal Service® hereby gives notice that, pursuant to 39 U.S.C. 3642, on October 9, 2015, it filed with the Postal Regulatory Commission a Request of the United States Postal Service to add Global Expedited Package Services—Non-Published Rates 8 (GEPS—NPR 8) to the Competitive Products List, and Notice of Filing GEPS—NPR 8 Model Contract and Application for Non-Public Treatment of Materials Filed Under Seal.

Documents are available at www.prc.gov, Docket Nos. MC2016-5 and CP2016-5.

Stanley F. Mires,
Attorney, Federal Compliance.

[FR Doc. 2015-26512 Filed 10-19-15; 8:45 am]

BILLING CODE 7710-12-P